DEPARTMENT OF HEALTH AND HUMAN SERVICES

National Institutes of Health

Center for Scientific Review; Amended Notice of Meeting

Notice is hereby given of a change in the meeting of the Genome Study Section, June 20, 2004, 8:30 a.m. to June 22, 2004, 5 p.m., Four Points by Sheraton Bethesda, 8400 Wisconsin Avenue, Bethesda, MD, 20814 which was published in the Federal Register on June 10, 2004, 69 FR 32600-32604.

The meeting will be held June 21, 2004 to June 22, 2004. The meeting time and location remain the same. The meeting is closed to the public.

Dated: June 22, 2004.
LaVerne Y. Stringfield,
Director, Office of Federal Advisory Committee Policy.

[FR Doc. 04-14738 Filed 6-29-04; 8:45 am]

BILLING CODE 4140-01-M